COMMISSION ON CIVIL RIGHTS

Notice of Public Meeting of the Delaware Advisory Committee to the U.S. Commission on Civil Rights

AGENCY: Commission on Civil Rights.

ACTION: Announcement of public meeting.

SUMMARY: Notice is hereby given, pursuant to the provisions of the rules and regulations of the U.S. Commission on Civil Rights (Commission) and the Federal Advisory Committee Act that the Delaware Advisory Committee (Committee) to the U.S. Commission on Civil Rights will convene a business meeting on Wednesday, January 24, 2024, at 1:00 p.m. Eastern Time. The purpose of the meeting is for the committee to discuss the progress of their report on the COVID-19 impact on people of color in Delaware.

DATES: Wednesday, January 24, 2024; 1:00 p.m. (ET)

ADDRESSES: The meeting will be held via Zoom.

Registration Link (Audio/Visual): https://tinyurl.com/bdeax2vv; passcode: USCCR-DE

Join by Phone (Audio Only): 1-833-435-1820 USA Toll-Free; Meeting ID: 160 070 5129#

FOR FURTHER INFORMATION CONTACT: Ivy Davis, Designated Federal Official at idavis@usccr.gov or 202-381-8915.

SUPPLEMENTARY INFORMATION: This committee meeting is available to the public through the link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email ebohor@usccr.gov at least 10 business days prior to the meeting.

Members of the public are entitled to submit written comments; the comments must be received in the regional office within 30 days following the meeting. Written comments may be emailed to Ivy Davis at idavis@usccr.gov. Persons who desire additional information may contact the Regional Programs Coordination Unit at 1-312-353-8311.

Records generated from this meeting may be inspected and reproduced at the Regional Programs Coordination Unit Office, as they become available, both before and after the meeting. Records of the meetings will be available via www.facadatabase.gov under the Commission on Civil Rights, Delaware Advisory Committee link. Persons interested in the work of this Committee are directed to the Commission's website, http://www.usccr.gov, or may contact the Regional Programs Coordination Unit at ebohor@usccr.gov.

Agenda

I. Welcome and Roll Call

II. Project Planning, Report Discussion, and Potential Report Vote

III. Public Comment

IV. Discuss Next Steps

V. Adjournment

Exceptional Circumstance: Pursuant to 41 CFR 102-3.150, the notice for this meeting is given less than 15 calendar days prior to the meeting because of the exceptional circumstances of staffing limitations during the holiday season.

Dated: January 9, 2024.
David Mussatt,
Supervisory Chief, Regional Programs Unit.

[FR Doc. 2024-00580 Filed 1-11-24; 8:45 am]

BILLING CODE P